DEPARTMENT OF ENERGY

Notice of Competitive Financial Assistance for the Office of Energy Efficiency and Renewable Energy

AGENCY: U.S. Department of Energy.

ACTION: Notice of Competitive Financial Assistance Solicitation, State Science Initiative for Applied Research, Development and Demonstration Projects.

SUMMARY: The Department of Energy (DOE) is announcing a competitive solicitation for applications for cooperative agreements to pursue applied research, development and demonstration (including field testing) involving energy efficiency. Demonstrations will be limited to field tests which provide critical operational feedback to researchers and/or manufacturers for the purpose of improving technical performance or lowering costs.

It is estimated that funding of approximately $6 million will be available for 7 to 10 awards under this solicitation in fiscal year 2000. Seven priority areas of interest have been identified through a collaborative planning process with the States during the past year: (1) Bio-based products and bioenergy; (2) Fuel cells and microturbines; (3) Petroleum industry; (4) Schools; (5) Combined heat and power and distributed generation; (6) Data acquisition; and (7) Transportation. The awards will be for a period of one to three years.

Proposals will be subject to the objective merit review procedures for the Office of Energy Efficiency and Renewable Energy (EERE). Eligibility under this solicitation is restricted to state energy offices and state energy research organizations. These organizations may enter teaming arrangements with industry, DOE national laboratories, private educational institutions, non-profit organizations, and Native American organizations.

Applications by DOE management and operating contractors (M&O) will not be eligible for award. However, applications that include performance of a portion of the project, not to exceed 50 percent of the total effort, by an M&O contractor will be eligible provided that the proposed use of any such entity is specifically authorized in writing by the DOE Contracting Officer or authorized designee responsible for the M&O.

This solicitation provides opportunities to leverage funds for important Research, Development and Demonstration (RD&D) designed to advance technologies that promote energy efficiency. It is anticipated that a minimum of 20 percent non-Federal cost-sharing will be required for all projects receiving awards. Any proposed cost-sharing above the minimum 20 percent will be given favorable consideration in the selection process.

DATES: The formal solicitation document, which will include greater detail about specific program areas of interest, application instructions, due dates and evaluation criteria, is expected to be issued later in February 2000. Prospective applicants will be encouraged to submit a pre-application, not longer than two pages, within 20 days following issuance of the solicitation. All pre-applications must be submitted by an eligible applicant. A response to the pre-application encouraging or discouraging a formal application will be communicated to the applicant. Submission of a pre-application is not a requirement for submitting an application under this solicitation.

ADDRESSES: The formal solicitation document will be disseminated electronically as Solicitation No. DE-PS36-00GO10499 through the Golden Field Office's World Wide Web site at http://www.eren.doe.gov/golden/solicitations.html.

FOR FURTHER INFORMATION CONTACT: Contact the U.S. Department of Energy, Office of Energy Efficiency and Renewable Energy, Golden Field Office, 1617 Cole Blvd., Golden, CO 80401. The Contract Specialist is James Damm, at FAX (303) 275-4788 or e-mail at jim_damm@nrel.gov. All questions or comments concerning this announcement must be in writing and should be directed to the attention of Mr. Damm. The preferred method of submitting questions and/or comments is through e-mail. Only questions and comments submitted to Mr. Damm will be considered. Questions and/or comments requiring coordination with EERE program officials will be directed by Mr. Damm to the cognizant offices.

SUPPLEMENTARY INFORMATION: The Office of EERE implements DOE's strategic objectives of increasing the efficiency and productivity of energy use, while limiting environmental impacts; reducing the vulnerability of the U.S. economy to disruptions in energy supplies; ensuring that a competitive electric utility industry is in place that can deliver adequate and affordable supplies with reduced environmental impacts; supporting U.S. energy, environmental, and economic interests in global markets; and delivering leading-edge technologies.

The purpose of the planned solicitation is to pursue applied research, development, and demonstration (including field testing) with state energy offices and state energy research organizations in the following technology areas (or combination of technology areas) as described below:

1. Bio-Based Products and Bioenergy

Applications will be accepted on applied research and development for promoting the use of crops, trees and residues to (a) replace conventional feedstocks to make chemical products; or (b) enhance existing, or produce new, forest or agricultural (non-food, non-feed) products. We anticipate that proposals will include, but are not limited to, R&D on: (a) Biotechnology for accelerating the development or deployment of plant feedstocks that could be used by companies to perform biochemical and other conversions to produce chemicals and other products; (b) plant physiology controlling important traits affecting crop and forest productivity; (c) improved production methods and practices to ensure that an adequate supply of plant-derived material is available for industrial use; or (d) improved conversion methods or practices for the production of bio-based chemicals and products. Priority will be given to projects that integrate the areas of plant science and production with processing and utilization of new chemical, forest or agricultural (non-food, non-feed) products. Such integrated projects that also show a linkage to the biopower and biofuels technologies are encouraged.

2. Fuel Cells and Microturbines

Applications will be accepted for applied research and technology field tests focused in both the buildings and transportation sectors. Proposals in the fuel cells technology area should include, but are not limited to, applied research and field testing of: (a) Proton exchange membrane (PEM) fuel cells adapted for use in residential and light commercial facilities, particularly the operation of PEM fuel cells in a variety of existing building types (e.g., small commercial retail, light manufacturing, multi-family residential) under various operating scenarios; (b) other types of fuel cells (e.g., molten carbonate, solid oxide) in commercial and industrial facilities; (c) fuel cell performance in on-road vehicles under various operating conditions; and (d) vehicle fleets as a test bed for improving current systems or advancing technologies to generate hydrogen from natural gas reforming or through electrolysis.

In the microturbine technology area, cooperative projects should focus on applied research and field testing over a range of applications, geographic locations, and operating systems: (a) To demonstrate technical performance reliability and durability and to provide feedback for further technology development; and (b) to demonstrate microturbine technology improvements or upgrades, including components or subsystems (e.g., gas compressors, recuperators, and combustors).

3. Petroleum Industry

Applications will be accepted for applied research and testing of motors and other energy-using equipment in domestic oil fields to assess usage and modify or replace equipment to reduce energy costs. Examples of efforts with the states could include, but are not limited to: (a) Improving sensor and control technologies for reducing electricity demand in the oil fields; (b) developing models for field energy use assessments; and (3) developing guidelines for equipment replacement.

4. Schools

Applications will be accepted for applied research and technology field validations/operational tests which accelerate adoption of new technologies to improve the energy efficiency of school facilities. This work should be focused in the following areas:

(a) Building Technologies—Conduct applied research and technology field testing through an integrated buildings approach in a range of technology areas, such as: space conditioning and refrigeration; other energy-efficient appliances; super-efficient windows and lighting; productivity enhancing approaches (e.g., increased daylighting); and peak shaving/load shifting technologies that reduce peak air conditioning demand during the day.

(b) Advanced Technologies—Conduct applied research and field testing of (i) distributed generation technologies, including but not limited to, fuel cell, microturbine and cogeneration applications in school facilities; and (ii) advanced energy technologies for use in school facilities.

(c) Technology Integration—Develop a mechanism that will take the results of the building and advanced technologies research and field testing and integrate them into a comprehensive program which supports, but is not limited to, the development of technical design guidelines for new school construction and renovations which will be used by architects, engineers and product manufacturers. Emphasis also will be placed on building design and financing templates and related facilitation of financial assistance aimed at integrated building efficiency improvements.

5. Combined Heat and Power (CHP) and Distributed Power

Applications will be accepted for work involving distributed power and combined heat and power technologies. This work includes, but is not limited to, applied research and field testing to address:

(a) Transmission constraints, interconnect barriers, and to encourage strategic placement of distributed power technologies, consistent and streamlined siting and permitting regulations, and an equipment pre-certification program to avoid long and costly permitting delays;

(b) New commercial and industrial development and urban infill redevelopment for distributed generation utilizing several DOE developed technologies (e.g., fuel cells, microturbines, industrial turbines, photovoltaics, wind, solar geothermal and energy storage) and demand-side management measures to examine systemic operational parameters and capabilities;

(c) Advanced distributed power and combined heat and power technologies at state and federal facilities; and

(d) Hybrid applications (e.g., hybrid wind/fuel cell/microturbine applications) for institutional and commercial application.

6. Data Acquisition

Applications will be accepted for: (a) Reviewing and developing complementary State and Federal energy data sets; (b) expanding energy data sets; and (c) redesigning federal and state data collection instruments to evaluate the changing structure of the electric power industry and the natural gas industry.

7. Transportation

Emphasis should be placed upon applied research and technology field validations/operational tests designed to maximize the benefits of clean and efficient vehicle technologies. These activities include, but are not limited to: (a) Testing alternative fuels performance in on-road vehicles under operating conditions to test propulsion systems; (b) research on operating a refueling infrastructure for alternative fuel vehicles; (c) transportation applications, such as fuel cells, hybrid propulsion systems, motors, controllers, and sensors.

Additional information about the programs of the Office of EERE can be obtained at the Office's Internet site at http://www.eren.doe.gov/ee.html.

Issued in Golden, CO
Dated: February 1, 2000.
Jerry Zimmer,
Procurement Director, Golden Field Office.

[FR Doc. 00-2795 Filed 2-7-00; 8:45 am]

BILLING CODE 6450-01-P